DEPARTMENT OF AGRICULTURE

Forest Service

Chippewa National Forest Resource Advisory Committee

AGENCY: Forest Service, USDA.

ACTION: Notice of meeting.

SUMMARY: The Chippewa National Forest Resource Advisory Committee will meet in Grand Rapids, Minnesota. The committee is meeting as authorized under the Secure Rural Schools and Community Self-Determination Act (Pub. L. 110-343) and in compliance with the Federal Advisory Committee Act. The purpose of the meeting is to provide background information on national forest projects and processes to the Chippewa National Forest Resource Advisory Committee members and open a period for submittal of public proposals.

DATES: The meeting will be held on Tuesday, November 30, 2010, at 9:45 a.m.

ADDRESSES: The meeting will be held at the Minnesota Interagency Fire Center, Training Room, 402 11th Street, SE., Grand Rapids, Minnestoa 55744. Written comments should be sent to Chippewa National Forest RAC, 200 Ash Avenue, NW., Cass Lake, MN 56633. Comments may also be sent via e-mail to kgetting@fs.fed.us, or via facsimile to 218-335-8637.

All comments, including names and addresses when provided, are placed in the record and are available for public inspection and copying. The public may inspect comments received at the Chippewa National Forest Supervisors Office. Visitors are encouraged to call ahead to 218-335-8600 to facilitate entry into the building.

FOR FURTHER INFORMATION CONTACT: Kay K. Getting, Public Affairs Team Leader, Chippewa National Forest Supervisors Office, 218-335-8600. Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: Review of previous meeting content, Overview of typical projects of the Chippewa National Forest and Federal process timelines, Decision on when and how to submit project proposals, and a Public Forum. The agenda and any applicable documents may be previewed at the Secure Rural Schools RAC Web site https://fsplaces.fs.fed.us/fsfiles/unit/wo/secure_rural_schools.nsf. Persons who wish to bring related matters to the attention of the Committee may file written statements with the Committee staff before or after the meeting. A public input session will be provided and individuals who made written requests by November 19th will have the opportunity to address the Committee at those sessions.

Dated: November 2, 2010.
Robert N. Schmal,
Acting Chippewa National Forest Supervisor.

[FR Doc. 2010-28601 Filed 11-12-10; 8:45 am]

BILLING CODE 3410-11-P